DEPARTMENT OF AGRICULTURE

Farm Service Agency

Information Collection Request; Emergency Conservation Program (ECP) and Biomass Crop Assistance Program (BCAP)

AGENCY: Farm Service Agency, USDA.

ACTION: Notice; request for comments.

SUMMARY: In accordance with the Paperwork Reduction Act of 1995, as amended, the Farm Service Agency (FSA) is requesting comments from all interested individuals and organizations on an extension with a revision of currently approved information collection associated with the Emergency Conservation Program (ECP) and Biomass Crop Assistance Program (BCAP). This information is collected in support of, respectively, sections 401-407 of the Agricultural Credit Act of 1978, as amended, and section 9011 of the Farm Security and Rural Investment Act of 2002, as amended.

DATES: We will consider comments that we receive by February 6, 2018.

ADDRESSES: We invite you to submit comments on this Notice. In your comment, include the volume, date, and page number of this issue of the Federal Register. You may submit comments by any of the following methods:

• Federal eRulemaking Portal: Go to: www.regulations.gov. Follow the online instructions for submitting comments.

• Mail, hand delivery, or courier: Virginia Green, ECP Program Manager, Conservation and Environmental Programs Division, Farm Service Agency, United States Department of Agriculture, STOP 0513, 1400 Independence Avenue SW., Washington, DC, 20250-0513.

You may also send comments to the Desk Officer for Agriculture, Office of Information and Regulatory Affairs, Office of Management and Budget, Washington, DC 20503. Copies of the information collection may be requested by contacting Martin Bomar.

FOR FURTHER INFORMATION CONTACT: For specific questions related to collection activities, Virginia Green, (202) 401-9144.

SUPPLEMENTARY INFORMATION:

Description of Information Collection

Title: Emergency Conservation Program and Biomass Crop Assistance Program.

OMB Control Number: 0560-0082.

Expiration Date: March 31, 2018.

Type of Request: Extension of a Currently Approved Information Collection.

Abstract: The collection of this information is necessary to allow FSA to:

(1) Effectively administer the regulations under ECP, which are set forth at 7 CFR part 701, so as to provide funding and technical assistance for farmers and ranchers to restore farmland damaged by natural disasters, and for emergency water conservation measures in severe droughts; and

(2) Effectively administer the regulations for BCAP, which are set forth at 7 CFR part 1450, so as to provide financial assistance to owners and operators of agricultural and non-industrial private forest land who wish to establish, produce, and deliver biomass feedstocks.

This information is collected in support of, respectively, sections 401-407 of the Agricultural Credit Act of 1978 (Pub. L. 95-334), as amended, and section 9011 of the Farm Security and Rural Investment Act of 2002 (Pub. L. 107-171), as amended.

FSA will decrease the burden hours in the request because FSA will replace the form series AD-245 and its associated computing process, with the new form series FSA-848 and a web-based computing environment. Also, participation in BCAP has been reduced due to reduced funding. FSA is removing three forms for ECP, FSA-18, ACP-153, and ACP-153A, and one form for BCAP, CCC-36, Assignment of Payment, from the information collection.

For the following estimated total annual burden on respondents, the formula used to calculate the total burden hours is the estimated average time per response multiplied by the estimated total annual of responses.

Estimate of Average Time To Respond: Public reporting burden for collecting information under this notice is estimated to average 0.26556 hours per response (an average of 16 minutes), including the time for reviewing instructions, searching existing data sources, gathering and maintaining the data needed, completing and reviewing the collection of information for all respondents, and travel time for half of the respondents. The average travel time, which is included in the total annual burden, is estimated to be 1 hour per respondent.

Type of Respondents: Owners, operators and other eligible agricultural producers on eligible farmland.

Estimated Number of Respondents: 55,680.

Estimated Number of Responses per Respondent: 5.258.

Estimated Total Annual Reponses: 292,820.

Estimated Average Time per Response: 0. 26556 hours.

Estimated Total Annual Burden on Respondents: 77,763 hours.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

Steven J. Peterson,
Acting Administrator, Farm Service Agency.

[FR Doc. 2017-26464 Filed 12-7-17; 8:45 am]

BILLING CODE 3410-05-P